DEPARTMENT OF HEALTH AND HUMAN SERVICES

Administration for Children and Families

Proposed Information Collection Activity; Comment Request

Title: Annual Collection of Three Performance Measures for the Low Income Home Energy Assistance Program (LIHEAP) and Transition of Collection Instrument for Annual Report on Households Assisted and LIHEAP Grantee Survey.

OMB No: New Collection

Description:In response to the 2010 Government Accountability Office (GAO) report, Low Income Home Energy Assistance Program—Greater Fraud Prevention Controls are Needed (GAO-10-621), and in consideration of the recommendations issued by the LIHEAP Performance Measures Implementation Work Group, the Office of Community Services (OCS) is planning to require the collection and reporting of three new performance measures by its State LIHEAP grantees and the District of Columbia, beginning in FY 2014. These performance measures are:

1. The average reduction in energy burden for households receiving LIHEAP fuel assistance;

2. The percent of unduplicated households where LIHEAP prevented a potential home energy crisis; and

3. The percent of unduplicated households where LIHEAP benefits restored home energy.

Each of the above performance measures will require the reporting of data elements through a web-based data collection and reporting system. All State LIHEAP grantees and the District of Columbia will be required to report the information below through this new web-based system. This reporting will be optional for Tribes/Tribal Organizations and Territories. OCS will provide training and technical assistance to LIHEAP grantees on how to collect and report these new data.

The following lists the specific data grantees will report to OCS in support of each performance measure:

The Average Reduction in Energy Burden for Households Receiving LIHEAP Fuel Assistance

• The average annual or annualized gross income for LIHEAP households receiving energy assistance. Gross income includes whatever LIHEAP grantees determine as countable income.

• The average annual total LIHEAP fuel assistance benefit (includes all bill payment assistance).

• The number of LIHEAP households using each of the six energy sources as their primary heating/cooling source. These include Natural Gas, Electricity, Fuel Oil, Propane, Wood and Coal.

• The average annual primary home energy expenditures of LIHEAP households for each of the four following energy sources: Natural Gas, Electricity, Fuel Oil, and Propane.

• For each heating fuel type, the number of LIHEAP recipient households who report using a secondary source of heat.

• Annual Heating Fuel Consumption: The grantee would need to collect information from each client's heating fuel vendor on the client's annual heating fuel consumption.

• Annual Electricity Consumption: For each household that has a nonelectric main heating fuel and uses cooling equipment, the grantee would need to collect information from the client's electricity vendor on the client's annual electricity usage.

The Percent of Unduplicated Households Where LIHEAP Prevented a Potential Home Energy Crisis

• The number of households who had a notice from a bulk fuel vendor regarding an unpaid or past due balance (e.g., vendor will not make next delivery) and LIHEAP benefits were used to purchase fuel.

• The number of households who inform LIHEAP staff that they are nearly out of deliverable fuel (firewood, propane, kerosene, etc.) and LIHEAP benefits were used to purchase fuel. The exact definition of “nearly out of fuel” is left to the discretion of each grantee.

• The number of households who had a Past Due or Disconnect Notice from their utility and LIHEAP benefits were used to pay utility bill.

• The number of households where LIHEAP benefits resulted in repair or replacement of operable heating or cooling equipment.

The Percent of Unduplicated Households Where LIHEAP Benefits Restored Home Energy

• The number of households that are out of fuel and LIHEAP services result in bulk fuel delivery or purchase.

• The number of households that have no utility service and LIHEAP benefits result in reconnection of services.

• The number of households where LIHEAP benefits resulted in repair or replacement of inoperable heating or cooling equipment.

State grantees will report the data elements on a new form (see attached) that will be available in a system currently in use by the Administration for Children and Families (ACF), the On-Line Data Collection (OLDC) system. Grantees already have the capacity to submit other ACF forms via OLDC. OCS intends to make all required reports available for submission via OLDC, including the reporting of six currently approved data collections:

1. LIHEAP Carryover and Reallotment Report—OMB Control No. 0970-0106;

2. LIHEAP Household Report (short and long formats)—OMB Control No. 0970-0060

3. LIHEAP Grantee Survey—OMB Control No. 0970-0076;

4. LIHEAP Leveraging Report—OMB Control No. 0970-0121;

5. LIHEAP Program Integrity Assessment Supplement—OMB Control No. 0970-0075; and

6. LIHEAP Model Plan (Detailed and Abbreviated)—OMB Control No. 0970-0075.

The content and annual burden estimates for the above existing data collections will remain unchanged. The only modification is the instrument of the data collections, which will now be through OLDC.

The information is being collected for the Department's annual LIHEAP Report to Congress. The data also provides information about the need for LIHEAP funds. Finally, the data are used in the calculation of LIHEAP performance measures under the Government Performance and Results Act of 1993. The data elements will improve the accuracy of measuring LIHEAP targeting performance and LIHEAP cost efficiency.

Respondents: State Governments and the District of Columbia

Annual Burden Estimates for Performance Measures
Performance measure | Number of respondents | Number of responses per respondent | Average burden hours per response | Total burden hours
Percentage of Reduction in Household Energy Burden | 51 | 1 | 60 | 3,060
Number of Utility Service Restorations | 51 | 1 | 20 | 1,020
Number of Crises Averted | 51 | 1 | 20 | 1,020

Estimated Total Annual Burden Hours: 5,100.

As LIHEAP is a block grant, there is a wide spectrum of capacity to collect and report data among grantees. The estimated burden hours displayed above are for the average LIHEAP grantee, assuming data collection systems and agreements already in place. For those grantees that would need to establish such agreements and systems, estimated burden for the initial year of reporting would more closely resemble 400 hours for each performance measure. However, after the systems are in place, estimated burden for the collection of these data will more closely reflect the figures in the table above.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Prmenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2013-13384 Filed 6-5-13; 8:45 am]

BILLING CODE 4184-01-P